DEPARTMENT OF TRANSPORTATION

Federal Railroad Administration

[Docket Number FRA-2012-0083]

Petition for Waiver of Compliance

In accordance with Part 211 of Title 49 Code of Federal Regulations (CFR), this document provides the public notice that by a document dated October 5, 2012, New Jersey Transit (NJ Transit) has petitioned the Federal Railroad Administration (FRA) for a waiver of compliance from certain provisions of the Federal railroad safety regulations at 49 CFR part 218, Railroad Operating Practices. FRA assigned the petition Docket Number FRA-2012-0083.

NJ Transit owns and operates service on the Pascack Valley Line, which runs from Spring Valley, NY to Hoboken, NJ. Commuter rail service for the three stations in New York State (Spring Valley, Pearl River, and Nanuet) is provided under contract with Metro-North Railroad. Woodbine Yard, located in Spring Valley, NY, has been in service long before NJ Transit became operational on January 1, 1983. The yard consists of three tracks terminating at the end of the 31-mile Pascack Valley Line. In 2003, the yard was expanded and updated to make room for additional commuter rail service on the line. All three tracks were extended to the maximum distance allowed by the available land for train storage and use by mechanical personnel for inspection, servicing, and repairs that require Blue Signal Protection.

The current Mechanical Department workforce at this facility includes approximately 24 employees inspecting, servicing, and repairing approximately 10 trains per day. The allotted times for servicing equipment are restricted due to train availability, time of day, and train scheduling requirements. Currently, all three tracks are used for inspection, servicing, and repairs that require Blue Signal Protection. The maximum track space on each track is being used to accommodate the current length of the train consists. However, complying with the current regulations requiring derails to be placed 150 feet away from equipment requiring Blue Signal Protection will restrict the train lengths that can be placed on a given track. In addition, lining and locking a track switch away from the track being protected will restrict the amount of equipment that can be simultaneously inspected, serviced, or repaired.

Based on the situation described above, NJ Transit seeks a waiver from 49 CFR Section 218.29(c)(1) for Woodbine Yard in Spring Valley, NY. This section requires that derails protecting tracks under Blue Signal Protection be placed “no less than 150 feet” from equipment and locked “with an effective locking device.” The combination of the yard layout at Spring Valley and equipment track occupancy is such that meeting this requirement is impractical. In addition, the layout of switches to individual tracks is such that the use of the method of lining switches against movement as provided by Section 218.27(b) is also impractical due to track configuration and the necessity to inspect, service, and repair equipment on the adjacent tracks simultaneously. In lieu of Section 218.29(c)(1), NJ Transit requests that FRA grant permission to NJ Transit to use Section 218.29(a)(4) that permits the placement of derails at least 50 feet from the end of the equipment requiring Blue Signal Protection if the speed within the area is restricted to not more than 5 mph.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 7, 2013 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on November 15, 2012.
Robert C. Lauby,
Deputy Associate Administrator for Regulatory and Legislative Operations.

[FR Doc. 2012-28349 Filed 11-20-12; 8:45 am]

BILLING CODE 4910-06-P